DEPARTMENT OF LABOR

Employment and Training Administration

[TA-W-50,937]

Gerber Plumbing Fixtures Corporation, Kokomo, IN; Notice of Termination of Investigation

Pursuant to section 221 of the Trade Act of 1974, as amended, an investigation was initiated on February 24, 2003, in response to a worker petition filed by the Glass, Molders, Pottery, Plastics & Allied Workers International Union, AFL-CIO, on behalf of workers at Gerber Plumbing Fixtures Corporation, Kokomo, Indiana.

The petitioner has requested that the petition be withdrawn. Consequently, the investigation has been terminated.

Signed at Washington, DC this 11th day of March 2003.
Richard Church,
Certifying Officer, Division of Trade Adjustment Assistance.

[FR Doc. 03-7206 Filed 3-25-03; 8:45 am]

BILLING CODE 4510-30-P